DEPARTMENT OF HEALTH AND HUMAN SERVICES

Centers for Disease Control and Prevention

[Program Announcement 01132]

American Indian/Alaska Native Core Capacity Building Programs; Notice of Availability of Funds

A. Purpose

The Centers for Disease Control and Prevention (CDC) announces the availability of fiscal year (FY) 2001 funds for a cooperative agreement program for American Indian/Alaska Native (AI/AN) Core Capacity Building Programs. This program addresses the “Healthy People 2010” focus areas of Maternal, Infant, and Child Health, Cancer, Heart Disease and Stroke, Diabetes, Human Immunodeficiency Virus (HIV), and Immunization and Infectious Diseases.

The purpose of the program is for AI/AN Communities to build core capacity and augment existing programs to reduce disparities in health outcomes for one or more of the designated health priority areas. In addition, the funding will be provided to AI/AN communities that demonstrate need based on high prevalence and related morbidity and mortality and have limited infrastructure and resources to address health disparities.

“Core capacity” is defined as the development of infrastructure and support strategies, including networking, partnership formation, and coalition building to raise and maintain community awareness and support, as well as national awareness of the health priority area needs of AI/AN populations. Core capacity programs include basic health promotion, disease prevention and control functions, ability to capture data, program coordination related to primary and secondary prevention, scientific capacity, training and technical assistance, and culturally competent intervention strategies for addressing the health priority area needs of AI/AN populations.

Background

In 1997, President Clinton committed the nation to an ambitious goal by the year 2010 to eliminate disparities in health status experienced by racial and ethnic minority populations in key areas, while continuing the progress we have achieved in improving the overall health of the American people. In support of this effort, the Department of Health and Human Services (DHHS) identified six health priority areas in which racial and ethnic minorities experience serious health disparities: Infant Mortality, Deficits in Breast and Cervical Cancer Screening and Management, Cardiovascular Diseases, Diabetes, Human Immunodeficiency Virus (HIV) Infections/Acquired Immunodeficiency Syndrome (AIDS), and Deficits in Child and/or Adult Immunizations. On behalf of the DHHS-wide collaborative effort, the Centers for Disease Control and Prevention (CDC) is coordinating and managing a major component of activities to support this initiative.

B. Eligible Applicants

Eligible applicants are federally recognized AI/AN tribal governments and corporations, non-federally recognized tribes and other organizations that qualify under the Indian Civil Rights Act, State Charter Tribes, Urban Indian Health Programs, Indian Health Boards, Inter-Tribal Councils, and other tribal organizations, including urban and eligible inter-tribal consortia.

Tribal organizations, inter-tribal consortia, and urban organizations are eligible if incorporated for the primary purpose of improving AI/AN health and represent such interests for the tribes, Alaska Native Villages and corporations, or urban Indian communities located in its region. AI/AN tribes or urban communities represented may be located in one state or in multiple states. An urban organization is defined as a non-profit corporate body situated in an urban center eligible for services under Title V of the Indian Health Care Improvement Act, PL 94-437, as amended.

Minimal Requirements

1. Application

The application must target American Indian or Alaska Native communities and must address one or more of the following six health priority area(s): Infant Mortality, Deficits in Breast and Cervical Cancer Screening and Management, Cardiovascular Diseases, Diabetes, Human Immunodeficiency Virus (HIV) Infections/Acquired Immunodeficiency Syndrome (AIDS), and Deficits in Child and/or Adult Immunizations. Activities for health priority areas that are not under these categories will not be considered.

2. Tax-exempt Status

For those applicants applying as a private, non-profit organization, proof of tax-exempt status must be provided with the application. Tax-exempt status is determined by the Internal Revenue Service (IRS) Code, Section 501(c)(3). Any of the following is acceptable evidence:

a. A reference to the organization's listing in the IRS's most recent list of tax-exempt organizations described in section 501(c)(3) of the IRS Code.

b. A copy of a currently valid IRS tax-exemption certificate.

c. A statement from a state taxing body, State Attorney General, or other appropriate state official certifying that the applicant organization has a non-profit status and that none of the net earnings accrue to any private shareholders or individuals.

d. A certified copy of the organizations's certificate of incorporation or similar document if it clearly establishes the non-profit status of the organization.

Competition is limited to those identified under “Eligible Applicants”, because of the problems posed by high prevalence, morbidity and mortality for Infant Mortality, Deficits in Breast and Cervical Cancer Screening and Management, Cardiovascular Diseases, Diabetes, Human Immunodeficiency Virus (HIV) Infections/Acquired Immunodeficiency Syndrome (AIDS), Deficits in Child and/or Adult Immunizations, and the unique challenges faced by this population.

Note: Title 2 of the United States code, Chapter 26 Section 1611 states that an organization described in section 501 (c)(4) of the Internal Revenue Code of 1986 that engages in lobbying activities is not eligible to receive Federal funds constituting an award, grant, cooperative agreement, contract, loan, or any other form.

C. Availability of Funds

Approximately $1,500,000 is available in FY 2001 to fund approximately five to seven awards. It is expected that the average award will be $250,000, ranging from $200,000 to $300,000. It is expected that the awards will begin on or about September 30, 2001, and will be made for a 12-month budget period within a project period of up to three years. Funding estimates may change.

Continuation awards within an approved project period will be made on the basis of satisfactory progress as evidenced by required reports and the availability of funds.

1. Use of Funds

Assistance under this award may consist of developing culturally competent health promotion and disease intervention strategies, building scientific capacity, providing training and technical assistance, and facilitating networking and partnership development, including promoting collaboration with other tribes, national/regional organizations (e.g., Indian Health Boards, Inter-Tribal Councils, etc.), other health organizations (e.g., hospitals, Indian Health Service and Tribal Health Clinics, foundations, National Diabetes Association, etc.), state/local health departments, the Indian Health Service and other Federal government agencies, and other appropriate partners (e.g., business associations, faith-based organizations, etc.).

Applicants will not be eligible for multiple awards for different health priority areas. However, applications addressing related health priority areas (e.g., cardiovascular diseases and diabetes, HIV infection/AIDS and infant mortality, etc.) that have a logical relationship due to common risk factors will be considered.

Funds may not be used to support direct patient medical care, facilities construction, to supplant or duplicate existing funding, or to fund activities for human subjects research.

Although applicants may contract with other organizations under these cooperative agreements, applicants must perform a substantial portion of the activities (including program management and operations) for which funds are requested.

Pre-Application Telephone Conference

Applicants are invited by CDC to participate in a pre-application technical assistance telephone conference May 24, 2001, from 1 p.m. to 3 p.m., Eastern Standard Time to discuss: programmatic issues regarding this program, how to apply, and questions regarding the content of the Program Announcement. This telephone conference is expected to last two hours. The conference name is American Indian/Alaska Native. The telephone bridge number for Federal participants is 404 639-3277; for non-Federal participants call 1-800-311-3437. Participants will need to enter the following conference code when prompted to be connected: code 112686.

2. Funding Preference

Each applicant may submit only one application. Geographic distribution among applicants and diversity in health priority areas may be funding considerations. Applicants should describe the geographic boundaries and make-up of the area for which it is applying. Applicants from the same geographic area are encouraged to collaborate. In addition, a community will not be eligible for multiple awards for different health priority areas. However, applications addressing related health priority areas (e.g., cardiovascular diseases and diabetes; HIV infection/AIDS and infant mortality) will be considered.

Should both a tribal organization and an individual tribe that is currently a member of that organization become award recipients, CDC may choose to ensure that no duplication of effort within the scope of work authorized in this Program Announcement will be conducted within the same target community.

D. Program Requirements

In conducting activities to achieve the purpose of this program, the recipient will be responsible for the activities under 1. (Recipient Activities), and CDC will be responsible for the activities listed under 2. (CDC activities). All Recipient and CDC Activities authorized under this Program Announcement are expected to be completed by the end of the three-year project period.

1. Recipient Activities for Core Capacity Building Programs During the Three-Year Project Period

a. Develop/enhance scientific capacity in epidemiology, statistics, surveillance, and data analysis from new or existing data systems (e.g., vital statistics, hospital discharges, Indian Health Service (IHS) data sets, National Health and Examination Survey (NHANES), Survey of American Indians/Alaska Natives, Behavioral Risk Factor Surveillance System (BRFSS), etc.) to correctly identify the AI/AN population(s) and existing health disparity and to monitor the effectiveness of public health interventions targeting these groups. Scientific capacity should include, but not be limited to, efforts to determine:

(1) Disease trends, including age of onset of disease, age at death, etc.;

(2) Geographic distribution of related health priority area disparities;

(3) Behavioral, social, or ecological risk factors related to the occurrence of disease;

(4) Ways to integrate systems to provide comprehensive data needed for assessing and monitoring the health of populations and program outcomes. Monitoring and program evaluation are considered essential components of building scientific capacity. Scientific capacity may also extend to developing access to outside databases, such as medical care and access to laboratory capacity consistent with the overall direction of the program.

b. Develop a Community Capacity Plan (CCP). Develop and implement a Community Capacity Plan, which includes specific objectives for building capacity to reduce disparities in health outcomes for selected health priority area(s)and related risk factors.

The plan should consider culturally appropriate behavioral, policy, and community approaches to reducing morbidity and mortality for the selected health priority area(s).

The CCP should include, but not be limited to, understanding the context, causes, and solutions for the health disparity; community needs assessment to identify and develop training and technical assistance; forming partnerships and engaging in community planning; accumulating resources; plans to develop and implement a culturally appropriate intervention(s) believed to bring about desired effects; planning community and systems changes that alter the environmental context within which individuals and groups behave; and documenting changes in knowledge, attitudes, beliefs, or behaviors among influential individuals or groups, with an intent of diffusing similar changes to a broader community population. For additional information regarding the CCP, please refer to Appendix I.

c. Evaluation Plan. Design and implement an evaluation plan to track and measure process and progress in developing a core capacity program. The plan should address measures considered critical to determine the readiness or ability of the AI/AN Community and its members to take action aimed at protective behaviors or changing risk, transforming community conditions and systems so that a supportive context exists to sustain behavior changes over time. In addition, the plan should include time-specific objectives which account for the major activities of the Community Capacity Plan, the means of tracking and measuring the collaborative work with partners, and any other relevant process measures. Time lines, objectives, and other supporting documentation should be included in the evaluation plan.

2. CDC Activities for the Three-Year Project

a. In collaboration with the recipient, provide appropriate training on developing prevention strategies (e.g., building scientific capacity, collaboration and partnerships, implementing guidelines and model programs on disease prevention, etc.), which prepare tribes to mobilize and engage in prevention initiatives for the health priority area(s) selected.

b. Provide technical assistance through conference calls, resource material, training, and updated information, as needed. Facilitate communications locally, regionally, and nationally regarding resources and other opportunities involving capacity building activities. In addition, provide technical assistance through site visits.

c. Participate in the evaluation of activities and initiatives, including annual site visits.

E. Content

Applications

Use the information in the Program Requirements, Other Requirements, and Evaluation Criteria sections to develop the application content. Your application will be evaluated on the criteria listed, so it is important to follow them in laying out your program plan. Submit an original and five copies of the application, unstapled, and unbound. The narrative should be no more than 30 double-spaced pages, printed on one side, with one-inch margins, and unreduced font. The thirty pages do not include budget, appended pages or items placed within appended pages such as resumes, tribal letters of commitment, other letters of support, etc.

The application should include the following:

1. Introduction—Applicant Description

a. Describe the applicant's tribe, organization or consortia, including purpose or mission (if applicable), years of existence (if applicable), and experience in representing the health-related interests of the represented tribe(s).

b. Describe the represented tribe(s), including:

(1) The total population size of the tribe(s) represented.

(2) The represented tribe(s) geographical locations, their proximity to you and how you plan to reach the tribe(s).

c. Applicants should describe experience in community development, including, but not limited to:

(1) Current and past experience in providing leadership in the development of health-related programs, training programs or health promotion campaigns.

(2) Current and past experience related to one or more of the health priority area(s) or public health disease prevention and control programs, including descriptions of activities and initiatives developed and implemented.

(3) Current and past experience in networking and in building partnerships and alliances with other organizations.

(4) Ability to provide support, outreach, and technical assistance on health-related matters to the represented tribes.

d. Submit a letter of commitment from the represented tribe(s) leadership, which indicates the tribe's willingness to participate in the program, including a copy of the signed original in the Appendix.

2. Need to Address Health Priority Area(s)

Describe the specific community's health problem(s) and need for building capacity to address the selected health priority area(s) among the represented tribe(s). Discuss data needs and how the applicant will assist the tribe(s) in addressing these identified needs. The information provided should describe the following:

a. The extent to which the tribe(s) is impacted by the health priority area(s), including discussion of prevalence rates and any variations in prevalence among represented tribe(s), morbidity and/or mortality, and other evidence of the health disparity.

b. The need to strengthen existing data and add new data.

c. The need for disease prevention and control strategies that are culturally appropriate for their populations, including discussion of the challenges, limitations and/or opportunities for implementing effective prevention programs.

d. The need to develop a comprehensive and sustainable CCP among the represented tribe(s).

3. Community Capacity Plan

Submit a comprehensive and detailed Community Capacity Plan (CCP) that is realistic and achievable over the three-year project period with objectives that are specific, measurable, achievable, and time-phased. The CCP should clearly address the following:

a. A description of how the applicant will conduct and use results of a community needs assessment to develop local or regional, culturally competent training and technical assistance programs to increase the skill-level of tribes and partners in areas such as epidemiologic investigative methods, surveillance, public health policy, and other relevant topics as identified through the needs assessment process (see Appendix for additional information and examples.

b. A description of how the applicant will identify and develop culturally-competent intervention strategies, designed to enhance program efforts to reduce the selected health disparity. Strategies should focus on public policy and community approaches but may include interventions that alter the context within which individuals and groups behave, increase awareness of the disease burden and risk factors, and promote healthy behaviors to reduce the selected disparity.

c. A description of who will be the target of selected activities and how each proposed activity will be achieved.

d. A description of proposed linkages with appropriate partners (e.g., tribal, state, local health departments, and other public or private organizations) in carrying out the proposed activities in the CCP.

e. A description of how the applicant will include affected community members in the development and implementation of the CCP.

f. A description of how the applicant will communicate and disseminate information and guidance to the represented tribes and their memberships (e.g., newsletters, conferences, and meeting minutes).

g. A time line detailing initiation and completion of all activities in the CCP for the three-year project period.

4. Management Plan

a. Provide a description of how the applicant will manage the project to accomplish all proposed activities.

b. Provide a description of how the applicant proposes to staff the project. Provide job descriptions and indicate if they are existing or proposed positions. Staffing should include the commitment of at least one full-time staff member to provide direction for the proposed activities. Demonstrate that the staff member(s) have the professional background, experience, and organizational support needed to fulfill the proposed responsibilities. Where possible, identify staff responsible for completing each activity.

c. Describe the letters of commitment from the represented tribe(s) leadership which indicates the tribe's willingness to participate in the program. Be sure to include the signed original in the Appendix.

d. Submit a copy of the applicant's organizational chart and describe the existing structure and how it supports the development of the proposed CCP for the health priority area(s) selected.

5. Evaluation

a. Applicants should describe how they plan to measure the implementation and progression of various capacity building activities in achieving the objectives during the three-year project period (e.g., understanding the context, causes, and solutions for health disparities, transforming community conditions and systems so that a supportive context exists to form and maintain an effective infrastructure, accumulating resources needed to implement the Community Capacity Plan, etc.).

b. Describe how the applicant will document success in building capacity for the tribe(s) (e.g., surveys conducted, group(s) formed, number of trainings conducted, level of difficulty of the training and their rationale, evidence of acquired skills through application, and the impact on program objectives).

c. Describe how the applicant will assess the quantity and quality of networking efforts (e.g., number of planning meetings or meeting with leadership, the degree of collaboration with leadership and other disease prevention and control programs, and the degree of collaboration with other organizations).

6. Budget and Accompanying Justification

(a) Provide a detailed budget and line-item justification that is consistent with the stated objectives and planned activities. To the extent possible, applicants are encouraged to include budget items for the following:

(1) Travel for a minimum of one or two persons to attend up to one national conference on health promotion and disease prevention related to the selected health priority area(s).

(2) Up to two trips to Atlanta, GA, for a minimum of one or two persons, to attend training and technical assistance workshops.

F. Submission and Deadline

Application

Submit the original and two copies of PHS 5161-1 (OMB Number 0348-0043). Forms are available in the application kit and at the following Internet address: http://forms.psc.gov

On or before July 13, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in 1. or 2. above, are considered late applications, will not be considered, and will be returned to the applicant.

G. Evaluation Criteria (100 points)

Each application will be evaluated individually against the following criteria by an independent review group appointed by CDC.

1. Introduction—Applicant Description (15 points)

a. The extent to which the applicant clearly describes the tribe, organization or consortia, including purpose or mission (if applicable), years of existence (if applicable), and experience in representing the health-related interests of the represented tribe(s).

b. The extent to which the applicant describes the population size of the total tribe(s) represented, geographic location(s) and proximity to the applicant (if applicable).

c. The extent of the applicant's capacity and ability to conduct the activities as evidenced by the:

(1) Current and past experience in providing leadership in the development of health-related programs, training programs or health promotion campaigns.

(2) Current and past experience related to one or more of the health priority area(s) or public health disease prevention and control programs, including descriptions of activities and initiatives developed and implemented.

(3) Current and past experience in networking and in building partnerships and alliances with other organizations.

(4) Ability to provide support, outreach, and technical assistance on health-related matters to the represented tribes.

2. Need to Address Health Priority Area(s) (20 points)

The extent to which the applicant documents the need for building capacity to address the selected health priority area(s) for an AI/AN population, including:

(a) The extent to which the tribe(s) is impacted by the health priority area(s), including discussion of prevalence rates and any variations in prevalence among represented tribe(s), morbidity and/or mortality, and other evidence of the health disparity;

(b) The need to strengthen existing data and add new data;

(c) The need for disease prevention and control strategies that are culturally appropriate for their populations, including discussion of the challenges, limitations and/or other opportunities for implementing effective prevention programs;

(d) The need to develop a comprehensive and sustainable CCP among the represented tribe(s).

3. Community Capacity Plan (25 points)

a. The extent to which CCP is realistic and the extent to which the objectives in the Community Capacity Plan are specific, measurable, achievable, relevant and time-phased and likely to be accomplished during the three-year budget period.

b. Extent to which a community needs assessment will be conducted and used to develop culturally-competent training and technical assistance programs to increase the skill-level of tribes and partners in areas such as epidemiologic investigative methods, surveillance, public health policy, and other relevant topics as identified through the needs assessment process, and organizational involvement in program activities;

c. Extent to which the applicant identifies culturally competent intervention strategies designed to enhance program efforts to reduce the selected health disparity;

d. Extent to which the applicant describes who will be the targeted and how each proposed activity will be achieved;

e. Extent to which the applicant describes proposed linkages with appropriate partners (e.g., tribal, state, local health departments, and other public or private organizations) in carrying out the Community Capacity Plan;

f. Extent to which the applicant describes how affected community members will be included in the development and implementation of the CCP.

g. Extent to which the applicant describes how communication and dissemination of information and guidance will be conducted with the represented tribe(s) and their memberships (e.g., newsletters, conferences, and meeting minutes) and

h. Extent to which the applicant provides time lines for initiation and completion of all proposed activities for the three-year period.

4. Management Plan (25 points)

a. Extent to which the applicant describes how the project will be managed to accomplish all proposed activities.

b. Extent to which the applicant provides a description of proposed staffing for the project, including providing job descriptions and indicating if they are existing or proposed positions. Staffing should include the commitment of at least one full-time staff member to provide direction for the proposed activities. Demonstrate that the staff member(s) have the professional background, experience, and organizational support needed to fulfill the proposed responsibilities. Where possible, identifying staff responsible for completing each activity.

c. Extent to which the applicant describes the letters of commitment from the represented tribe(s') leadership which indicates the tribe's willingness to participate in the program. Inclusion of signed originals should be provided in the Appendix.

d. Extent to which the applicant submits a copy of the applicant's organizational chart, and describes the existing structure and how it supports the development of the proposed CCP for the health priority area(s) selected.

5. Evaluation (15 points)

a. The extent to which the applicant describes how they plan to measure the implementation and progression of various capacity building activities in achieving the objectives during the three-year project period (e.g., understanding the context, causes, and solutions for health disparities; transforming community conditions and systems so that a supportive context exists to form and maintain an effective infrastructure; accumulating resources needed to implement the Community Capacity Plan, etc.).

b. Extent to which the applicant documents success in building capacity for the tribe(s) (e.g., number of trainings conducted, level of difficulty of the training and their rationale, evidence of acquired skills through application, and the impact on program objectives).

c. Extent to which the applicant describes the quantity and quality of networking efforts (e.g., number of planning meetings or meeting with leadership, the degree of collaboration with leadership and other disease prevention and control programs, and the degree of collaboration with other organizations).

6. Budget and Accompanying Justification (Not Scored)

The extent to which the applicant provides a detailed and clear budget consistent with the stated objectives and work plan.

H. Other Requirements

Technical Reporting Requirements Provide CDC With an Original Plus Two Copies of:

1. A progress report on a semi-annual basis. Progress reports are required no later than 30 days after the end of the first six months of the budget period, and 30 days after the end of the twelve-month budget period. The progress reports must include the following for each goal and objective.

a. Comparison of actual accomplishments to the objectives established for the period;

b. Reasons for not meeting any established objectives;

c. Other pertinent information, including explanations of any unexpected events or costs.

2. A financial Status Report (FSR) is required no later than 90 days after the end of each budget period.

3. A final FSR and progress report is required no later than 90 days after the end of the project period.

Send all reports to the Grants Management Specialist identified in the “Where to Obtain Additional Information” section of this announcement. All reports must be submitted to the Grants Management Branch, Procurement and Grants Office, CDC.

The following additional requirements are applicable to this program. For a complete description of each, see Attachment II in the application package.

AR-7 Executive Order 12372 Review

AR-9 Paperwork Reduction Act

AR-10 Smokefree Workplace Requirements

AR-11 Healthy People 2010

AR-12 Lobbying Restrictions

AR-15 Proof of Non-Profit Status

I. Authority and Catalog of Federal Domestic Assistance Number

This program is authorized under sections 301(a) and 317(k)(2) [42 U.S.C., section 241(a), and 247b(k)(2)] of the Public Health Service Act, as amended. The catalog of Federal Domestic Assistance number 93.283.

J. Where to Obtain Additional Information

This and other CDC announcements can be found on the CDC home page, Internet address—http://www.cdc.gov click on “funding” then “Grants and Cooperative Agreements.”

If you have questions after reviewing the contents of all documents, business management technical assistance may be obtained from: Robert Hancock, Grants Management Specialist, Grants Management Branch, Procurement and Grants Office, Centers for Disease Control and Prevention, 2920 Brandywine Road, Room 3000, Atlanta, Georgia 30341-4146, Telephone: (770) 488-2746, FAX: (770) 488-2820, Email address: rnh2@cdc.gov.

Program technical assistance may be obtained from: Chris Tullier, Project Consultant, Centers for Disease Control and Prevention, 4770 Buford Highway, NE, Mailstop K-30, Atlanta, Georgia 30341, Telephone: (770) 488-5482, Email Address: cjt4@cdc.gov.

Dated: May 16, 2001.
Henry S. Cassell, III,
Acting Director, Procurement and Grants Office, Centers for Disease Control and Prevention (CDC).

[FR Doc. 01-12810 Filed 5-21-01; 8:45 am]

BILLING CODE 4163-18-P